DEPARTMENT OF COMMERCE

National Oceanic and Atmospheric Administration

50 CFR Part 680

RIN 0648-AW37

Fisheries of the Exclusive Economic Zone Off Alaska; Bering Sea and Aleutian Islands King and Tanner Crabs

AGENCY: National Marine Fisheries Service (NMFS), National Oceanic and Atmospheric Administration (NOAA), Commerce.

ACTION: Notice of availability of an amendment to a fishery management plan; request for comments.

SUMMARY: NMFS proposes Amendment 24 the Fishery Management Plan for Bering Sea/Aleutian Islands King and Tanner Crabs (FMP) to: specify a five-tier system for determining the status of the crab stocks managed under the FMP, establish a process for annually assigning each crab stock to a tier and for setting the overfishing and overfished levels, and reduce the number of crab stocks managed under the FMP. Amendment 24 is necessary to establish new overfishing definitions that contain objective and measurable criteria for determining whether each managed stock is overfished or whether overfishing is occurring and to remove several crab stocks managed by the State of Alaska from FMP management. This action is intended to promote the goals and objectives of the Magnuson-Stevens Fishery Conservation and Management Act, the FMP, and other applicable laws.

DATES: Comments on Amendment 24 must be submitted on or before May 19, 2008.

ADDRESSES: Send comments to Sue Salveson, Assistant Regional Administrator, Sustainable Fisheries Division, Alaska Region, NMFS, Attn: Ellen Sebastian. You may submit comments, identified by RIN 0648-AW37, by any one of the following methods:

• Electronic Submissions: Submit all electronic public comments via the Federal eRulemaking Portal website at http://www.regulations.gov.

• Mail: P. O. Box 21668, Juneau, AK 99802.

• Fax: (907) 586-7557.

• Hand delivery to the Federal Building: 709 West 9th Street, Room 420A, Juneau, AK.

All comments received are a part of the public record and will generally be posted to http://www.regulations.gov without change. All Personal Identifying Information (e.g., name, address) voluntarily submitted by the commenter may be publicly accessible. Do not submit confidential business information or otherwise sensitive or protected information.

NMFS will accept anonymous comments. Attachments to electronic comments will be accepted in Microsoft Word, Excel, WordPerfect, or Adobe portable document file (pdf) formats only.

Copies of Amendment 24 and the Environmental Assessment (EA) for this action may be obtained from the NMFS Alaska Region at the address above or from the Alaska Region website at http://www.fakr.noaa.gov/sustainablefisheries.htm.

FOR FURTHER INFORMATION CONTACT: Gretchen Harrington, 907-586-7228 or gretchen.harrington@noaa.gov.

SUPPLEMENTARY INFORMATION: The Magnuson-Stevens Fishery Conservation and Management Act (Magnuson-Stevens Act) requires that each regional fishery management council submit any Fishery Management Plan (FMP) amendment it prepares to NMFS for review and approval, disapproval, or partial approval by the Secretary of Commerce. The Magnuson-Stevens Act also requires that NMFS, upon receiving an FMP amendment, immediately publish a notice in the Federal Register announcing that the amendment is available for public review and comment. This action constitutes such notice for Amendment 24 to the FMP for the Bering Sea/Aleutian Islands King and Tanner Crabs. NMFS will consider the public comments received during the comment period in determining whether to approve this FMP amendment.

In December 2007, the North Pacific Fishery Management Council (Council) unanimously recommended Amendment 24 to the Fishery Management Plan for Bering Sea/Aleutian Islands King and Tanner Crabs. Amendment 24 would satisfy the Magnuson-Stevens Act requirement that FMPs contain objective and measurable criteria for determining whether a stock is overfished, whether overfishing is occurring, and for rebuilding overfished stocks. Section 301(a) of the Magnuson-Stevens Act establishes national standards for fishery conservation and management, and requires that all FMPs create management measures consistent with those standards. National Standard 1 requires that conservation and management measures shall “prevent overfishing while achieving, on a continuing basis, the optimum yield” from fisheries in Federal waters.

Amendment 24 would (1) specify a five-tier system for determining the status of the crab stocks managed under the FMP, (2) establish a process for annually assigning each crab stock to a tier and for setting the overfishing and overfished levels, and (3) reduce the number of crab stocks managed under the FMP. The stocks status determination criteria in Amendment 24 are necessary to reflect current scientific information and accomplish the following:

• Provide an FMP framework to annually define values using the best available scientific information.

• Provide a new tier system that accommodates varying levels of uncertainty of information and takes advantage of alternative biological reference points.

• Define the status determination criteria and their application to the appropriate component of the population.

Removal of Stocks

Amendment 24 would remove twelve state-managed stocks from the FMP for which the State of Alaska (State) has a legitimate interest in the conservation and management. For each of these stocks, the majority of catch in the fisheries occurs in State waters or the State either has closed the directed fishery or manages a limited incidental or exploratory fishery. The State would continue to manage these stocks as they currently do under the deferred management authority of the FMP.

Five-Tier System

The stocks status determination criteria for crab stocks would be annually calculated using a five-tier system that accommodates varying levels of uncertainty of information. The five-tier system would incorporate new scientific information and provide a mechanism to continually improve the stock status determination criteria as new information becomes available. The five-tier system would be used to determine the status of the crab stocks and whether (1) overfishing is occurring or the rate or level of fishing mortality for a stock or stock complex is approaching overfishing, and (2) a stock or stock complex is overfished or a stock or stock complex is approaching an overfished condition.

Overfishing would be determined by comparing the overfishing level, as calculated in the five-tier system for the crab fishing year, with the catch estimates for that crab fishing year.

An overfished condition would be determined by comparing annual biomass estimates to the established minimum stock size threshold (MSST), defined as one half the biomass estimated to produce maximum sustainable yield to the fishery. For stocks where MSSTs (or proxies) are defined, if the biomass drops below the MSST (or proxy thereof) then the stock would be considered to be overfished. MSST or proxies would be set for stocks in Tiers 1 through 4. For Tier 5 stocks, it would not be possible to set an MSST because there are no reliable estimates of biomass.

Annually, the overfishing level for each stock would be calculated for the upcoming crab fishing year based on the most recent abundance estimates prior to the State of Alaska setting the total allowable catch or guideline harvest level for that stock's upcoming crab fishing season. First, a stock would be assigned to one of the five tiers based on the availability of information for that stock. Tier assignments would be made through the Council's Crab Plan Team process and recommended by the Council's Scientific and Statistical Committee.

Once a stock is assigned to a tier, the stock status level would be determined based on biomass estimates from recent survey data and simulation models, as available. The tier system would specify three levels of stock status: “a,” “b,” and “c.” At stock status level “a,” current stock biomass exceeds the biomass estimated to produce maximum sustainable yield to the fishery. At status level “b,” current stock biomass is less than necessary produce maximum sustainable yield to the fishery but greater than a level specified as the critical biomass threshold. At stock status level “c,” current stock biomass is below the critical biomass threshold and directed fishing would be prohibited. The stock status level determines the equation for calculating the fishing rate used to determine the overfishing level. For stocks in Tiers 1 through 4, the fishing rate would be reduced as biomass declines by stock status level.

Tier 5 stocks have no reliable estimates of biomass or natural mortality and only historical data of retained catch is available. For stocks in Tier 5, the overfishing level would be specified in terms of an average catch value over an historical time period, unless the Scientific and Statistical Committee recommends an alternative value based on the best available scientific information.

After the crab fishing year, NMFS would determine whether overfishing occurred by comparing the overfishing level with the catch from the previous crab fishing year. For stocks where non-target fishery removal data are available, catch would include all fishery removals, including retained catch and discard losses. Discard losses would be determined by multiplying the appropriate handling mortality rate by observer estimates of bycatch discards. For stocks where only retained catch information is available, the overfishing level would be set for and compared to the retained catch.

Annually, the Council, Scientific and Statistical Committee, and Crab Plan Team will review (1) the stock assessment documents, (2) the OFLs and total allowable catches or guideline harvest levels for the upcoming crab fishing year, (3) NMFS's determination of whether overfishing occurred in the previous crab fishing year, and (4) NMFS's determination of whether any stocks are overfished.

The Alaska Fisheries Science Center (AFSC) reviewed the proposed overfishing definitions in Amendment 24 and supporting environmental assessment for compliance with guidelines provided for National Standards 1 and 2 in 50 CFR part 600. During this review, the AFSC recommended modifications to the amendment text to clarify the Council's intent and comply with the Magnuson-Stevens Act. At its February 2008 meeting, the Council adopted the FMP text for Amendment 24 which included the AFSC's recommendations. On February 14, 2008, the AFSC certified that the proposed definitions (1) have sufficient scientific merit, (2) are likely to result in effective Council action to protect a managed stock from closely approaching or reaching an overfished status, (3) provide a basis for objective measurement of the status of a managed stock against the definition, and (4) are operationally feasible.

An EA was prepared for Amendment 24 that describes the management background, the purpose and need for action, the management alternatives, and the environmental and socio-economic impacts of the alternatives (see ADDRESSES).

Public comments are being solicited on proposed Amendment 24 through May 19, 2008. All comments received by the end of the comment period on the amendment will be considered in the approval/disapproval decision. Comments received after that date will not be considered in the approval/disapproval decision on the amendment. To be considered, comments must be received—not just postmarked or otherwise transmitted—by the close of business on the last day of the comment period.

Dated: March 13, 2008.
Emily H. Menashes
Acting Director, Office of Sustainable Fisheries, National Marine Fisheries Service.

[FR Doc. E8-5562 Filed 3-18-08; 8:45 am]

BILLING CODE 3510-22-S